DEPARTMENT OF TRANSPORTATION

Office of the Secretary

Aviation Proceedings, Agreements Filed the Week Ending May 25, 2013

The following Agreements were filed with the Department of Transportation under the Sections 412 and 414 of the Federal Aviation Act, as amended (49 U.S.C. 1382 and 1384) and procedures governing proceedings to enforce these provisions. Answers may be filed within 21 days after the filing of the application.

Docket Number: DOT-OST-2013-0110.

Date Filed: May 24, 2013.

Parties: Members of the International Air Transport Association.

Subject:

PTC COMP Mail Vote 734.

Resolution 024d Currency Names, Codes.

Rounding Units and Acceptability of Currencies.

South Africa Implementation date: 17 June 2013

(Memo PTC COMP 1713).

Intended effective date: June 10, 2013.

Barbara J. Hairston,
Acting Program Manager, Docket Operations, Federal Register Liaison.

[FR Doc. 2013-13962 Filed 6-11-13; 8:45 am]

BILLING CODE 4910-9X-P